DEPARTMENT OF ENERGY

Federal Energy Regulatory Commission

[Project No. 4026-055]

Androscoggin Reservoir Company; Notice of Application Tendered for Filing With the Commission and Establishing Procedural Schedule for Licensing and Deadline for Submission of Final Amendments

Take notice that the following hydroelectric application has been filed with the Commission and is available for public inspection.

a. Type of Application: New Major License.

b. Project No.: 4026-055.

c. Date Filed: March 31, 2023.

d. Applicant: Androscoggin Reservoir Company (ARCO).

e. Name of Project: Aziscohos Hydroelectric Project (project).

f. Location: On the Magalloway River in Oxford and Franklin Counties, Maine. The project does not occupy any federal land.

g. Filed Pursuant to: Federal Power Act, 16 U.S.C. 791(a)-825(r).

h. Applicant Contact: Randy Dorman, Relicensing Manager, Brookfield Renewable, 150 Maine Street, Lewiston, ME 04240; phone at (207) 755-5605, or email at Randy.Dorman@brookfieldrenewable.com.

i. FERC Contact: Michael Watts at (202) 502-6123, or michael.watts@ferc.gov.

j. This application is not ready for environmental analysis at this time.

k. Project Description: The existing project consists of: (1) a 74-foot-high, 881-foot-long concrete multiple arch-buttress dam consisting of the following sections: (a) a 236-foot-long concrete ogee spillway section with a crest elevation of 1,517.3 feet National Geodetic Vertical Datum of 1929 (NGVD29), and 3-foot-high flashboards at an elevation of 1,520.3 feet NGVD29 at the top of the flashboards; (b) a 265-foot-long concrete non-overflow section with two, 7-foot-diameter cylindrical discharge gates; (c) a 120-foot-long earthen dike north abutment; and (d) a 260-foot-long earthen dike south abutment; (2) a 27-foot-high, 900-foot-long earthen containment dike (Abbott Brooke Dike) located two miles upstream of the dam; (3) an impoundment (Aziscohos Lake) with a maximum water surface elevation of 1,520.3 feet NGVD29; (4) an intake structure consisting of a modified log sluice with stoplogs and a 96-inch butterfly valve in the non-overflow section of the dam; (5) a 2,462-foot-long, 8-foot-diameter steel penstock that provides flow to a 5.311-megawatt vertical Kaplan turbine-generator unit located in a concrete powerhouse; (6) a 60-foot-long tailrace; (7) a 12.47/34.5- kilovolt (kV) step-up transformer and a 23.5-mile long, 34.5-kV transmission line connecting the project generator to the regional grid; and (8) appurtenant facilities. The project creates an approximately 2,400-foot-long bypassed reach of the Magalloway River.

The project is operated as a seasonal storage reservoir as part of the Androscoggin River Storage System. The current license requires ARCO to provide a minimum flow of 130 cubic feet per second (cfs) downstream of the powerhouse from the start of spring refill through September 15. The minimum flow is increased to 214 cfs from September 16 to the start of spring refill each year. The current license requires that 50 cfs of the required minimum flow, be released from the Aziscohos Dam into the bypassed reach of the Magalloway River. The current license also requires that a whitewater flow of 900 cfs be released during the 4th weekend of June, 1st weekend of July, and 1st weekend of September; and a whitewater flow of 1,200 cfs be released on the 2nd weekend of July, and the 3rd and 4th weekend of August.

The minimum and maximum hydraulic capacities of the powerhouse are 290 cfs and 623 cfs, respectively. The average annual generation of the project was approximately 30,788 megawatt-hours from 2012 through 2022.

ARCO is not proposing any changes to project facilities or operation at this time.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4026). For assistance, contact FERC at FERCOnlineSupport@ferc.gov, (866) 208-3676 (toll free), or (202) 502-8659 (TTY). At this time, the Commission has suspended access to the Commission's Public Reference Room. For assistance, contact FERC at FERCOnlineSupport@ferc.gov or call toll free, (886) 208-3676 or TTY (202) 502-8659.

m. You may also register online at https://ferconline.ferc.gov/FERCOnline.aspx to be notified via email of new filings and issuances related to this or other pending projects. For assistance, contact FERC Online Support.

n. Procedural Schedule: The application will be processed according to the following preliminary schedule. Revisions to the schedule will be made as appropriate.

Milestone | Target date
Issue Deficiency Letter | April 2023.
Request Additional Information (if necessary) | August 2023.
Notice of Acceptance/Notice of Ready for Environmental Analysis | October 2023.
Filing of recommendations, preliminary terms and conditions, and preliminary fishway prescriptions | December 2023.

o. Final amendments to the application must be filed with the Commission no later than 30 days from the issuance date of the notice of ready for environmental analysis.

Dated: April 14, 2023.
Kimberly D. Bose,
Secretary.

[FR Doc. 2023-08356 Filed 4-19-23; 8:45 am]

BILLING CODE 6717-01-P